DEPARTMENT OF ENERGY

Federal Energy Regulatory Commission

Sunshine Act Meeting

July 18, 2001.

The following notice of meeting is published pursuant to section 3(A) of the Government in the Sunshine Act (Pub. L. No. 94-409), 5 U.S.C. 552B:

Agency Holding Meeting: Federal Energy Regulatory Commission.

Date and Time: July 25, 2001, 10:00 A.M.

Place: Room 2C, 888 First Street, NE., Washington, DC 20426.

Status: Open.

Matters To Be Considered: Agenda.

* Note—Items listed on the agenda may be deleted without further notice.

Contact Person for More Information: David P. Boergers, Secretary, Telephone (202) 208-0400, for a recording listing items stricken from or added to the meeting, call (202) 208-1627.

This is a list of matters to be considered by the Commission. It Does not include a listing of all papers relevant to the items on the agenda; however, all public documents may be examined in the reference and information center.

772nd—Meeting July 25, 2001 Regular Meeting 10 A.M.

Consent Agenda—Markets, Tariffs and Rates—Electric

CAE-1.

Omitted

CAE-2.

Docket# ER01-2251, 000, New York Independent System Operator, Inc.

CAE-3.

Docket# ER01-2195, 000, Mid-Continent Area Power Pool

Other#s ER01-2195, 001, Mid-Continent Area Power Pool

CAE-4.

Docket# ER01-2213, 000, Allegheny Energy Supply Company, LLC

Other#s ER00-2998, 001, Southern Company Services, Inc.; ER00-2999, 001, Southern Company Services, Inc.; ER00-3000, 001, Southern Company Services, Inc.; ER00-3001, 001, Southern Company Services, Inc.

CAE-5.

Docket# ER01-2201, 000 Entergy Services, Inc.

CAE-6.

Docket# ER01-2214, 000 Entergy Arkansas, Inc.

CAE-7.

Docket# ER01-2207, 000 Mid-continent Area Power Pool

CAE-8. Omitted

CAE-9.

Docket# ER01-2115, 000, New England Power Pool

Other# EL01-85,000, ISO New England, Inc.,; ER01-2192, 000, ISO New England, Inc.; ER01-2223, 000, New England Power Pool; ER01-2329, 000, New England Power Pool and ISO New England, Inc.; RT01-99, 000, Regional Transmission Organizations

CAE-10.

Docket# ER01-2092, 000, Allegheny Energy Supply Lincoln Generating Facility, LLC

Other#s ER00-2998, 001, Southern Company Services, Inc.; ER00-2999, 001, Southern Company Services, Inc.; ER00-3000, 001, Southern Company Services, Inc.; ER00-3001, 001, Southern Company Services, Inc.

CAE-11.

Docket# ER01-2307, 000, Dayton Power and Light Company

CAE-12.

Docket# ER01-2091, 000, Arizona Public Service Company, El Paso Electric Company and Public Service Company of New Mexico

Other#s NJ01-7, 000, Salt River Agricultural Improvement and Power District

CAE-13.

Docket# ER01-66, 000, Pacific Gas and Electric Company

Other#s ER01-66, 001, Pacific Gas and Electric Company

CAE-14.

Docket# ER01-1417, 000, Richmond County Power, LLC

CAE-15.

Docket# ER01-1519, 000, Arizona Public Service Company

CAE-16.

Omitted

CAE-17.

Docket# ER01-2099, 000, Neptune Regional Transmission System LLC

CAE-18.

Docket# ER01-282, 000, Duke Energy Corporation

Other#s ER01-282, 001, Duke Energy Corporation; ER01-283, 000, Duke Energy Corporation; ER01-283, 001, Duke Energy Corporation

CAE-19.

Docket# ER01-2230, 000, New York Independent System Operator, Inc.

CAE-20.

Docket# EL00-66, 002, Louisiana Public Service Commission and the Council of the City of New Orleans v. Entergy Corporation, Entergy Services, Inc., Entergy Arkansas, Inc., Entergy Louisiana, Inc., Entergy New Orleans, Inc. and Entergy Gulf States, Inc.

Other#s EL95-33, 004, Louisiana Public Service Commission v. Entergy Services, Inc.; ER00-2854 003, Louisiana Public Service Commission and the Council of the City of New Orleans v. Entergy Corporation, Entergy Services, Inc., Entergy Arkansas, Inc., Entergy Louisiana, Inc., Entergy New Orleans, Inc. and Entergy Gulf States, Inc.

CAE-21.

Docket# ER01-770, 002, Arizona Public Service Company

Other#s ER01-917, 002, Arizona Public Service Company

CAE-22.

Docket# EL00-62, 026, ISO New England, Inc.

CAE-23.

Docket# ER99-3487, 000, Montana Power Company

Other#s ER00-1992 001 Montana Power Company

CAE-24.

Docket# EC01-70, 000, Wisvest-Connecticut, LLC

Other#s ER01-1259, 000, NRG Connecticut Power Assets, LLC

CAE-25.

Docket# EC01-80, 000, Minnesota Power, Inc. and Superior Water, Light and Power Company

CAE-26.

Docket# EF00-5092, 000, United States Department of Energy—Western Area Power Administration (Boulder Canyon Project)

CAE-27.

Docket# ER01-1639, 001, Pacific Gas and Electric Company

CAE-28.

Docket# EC01-63, 001, Niagara Mohawk Holdings, Inc. and National Grid USA

Other#s EL01-56, 001, Niagara Mohawk Holdings, Inc. and National Grid USA

CAE-29.

Docket# ER01-1763, 001, Duke Electric Transmission

CAE-30.

Docket# EL01-41, 001, Strategic Energy L.L.C. v. California Independent System Operator Corporation

CAE-31.

Docket# TX93-4, 004, Florida Municipal Power Agency v. Florida Power & Light Company

Other#s EL93-51, 003, Florida Municipal Power Agency v. Florida Power & Light Company

CAE-32.

Docket# EF98-3011, 001, United States Department of Energy—Southeastern Power Administration

CAE-33.

Docket# ER95-1042, 003, System Energy Resources, Inc.

CAE-34.

Docket# OA01-6, 000, Exelon Corporation

CAE-35.

Docket# RM95-9, 014, Open Access Same-Time Information System (Oasis) and Standards of Conduct

CAE-36.

Docket# RM01-8, 000, Revised Public Utility Filing Requirements

CAE-37.

Omitted

CAE-38.

Docket# EL01-74, 000, Western Systems Coordinating Council

Other#s ER01-2058, 000, Western Systems Coordinating Council

CAE-39.

Docket# EL01-78, 000, LG&E Energy Marketing, Inc. v. Southern Company Services, Inc. and Georgia Transmission Corporation

CAE-40.

Omitted

CAE-41.

Omitted

CAE-42.

Docket# SC97-4, 000, City of Alma, Michigan

CAE-43.

Docket# EC01-119, 000, Genholdings I, LLC, Millennium Power Partners, L.P., Athens Generating Company, L.P., Covert Generating Company, LLC and Harquahala Generating Company, LLC

Other#s EL01-91, 000, Athens Generating Company, L.P.

CAE-44.

Docket# EL01-47, 005, Removing Obstacles to Increased Electric Generation and Natural Gas Supply in the Western United States

CAE-45.

Docket# ER01-2163, 000, American Electric Power Service Corporation

CAE-46.

Docket# EL01-80, 000, National Grid USA

CAE-47.

Docket# ER01-2215, 000, American Electric Power Service Corporation

CAE-48.

Docket# ER01-1587, 001, Consumers Energy Company

CAE-49.

Docket# EL00-95, 031, San Diego Gas & Electric Company v. Sellers of Energy and Ancillary Service Into Markets Operated by the California Independent System Operator Corporation and the California Power Exchange

Other#s EL00-95, 004, San Diego Gas & Electric Company v. Sellers of Energy and Ancillary Service Into Markets Operated by the California Independent System Operator Corporation and the California Power Exchange; EL00-95, 005, San Diego Gas & Electric Company v. Sellers of Energy and Ancillary Service Into Markets Operated By the California Independent System Operator Corporation and the California Power Exchange; EL00-98, 030, Investigation of Practices of the California Independent System Operator Corporation and the California Power Exchange; EL00-98, 033, Investigation of Practices of the California Independent System Operator Corporation and the California Power Exchange; EL00-98, 004, Investigation of Practices of the California Independent System Operator Corporation and the California Power Exchange; EL00-98, 005, Investigation of Practices of the California Independent System Operator Corporation and the California Power Exchange; RT01-85, 000, California Independent System Operator Corporation; RT01-85, 001, California Independent System Operator Corporation; EL01-68, 000, Investigation of Wholesale Rates of Public Utility Sellers of Energy and Ancillary Services in the Western Systems Coordinating Council; EL01-68, 001, Investigation of Wholesale Rates of Public Utility Sellers of Energy and Ancillary Services in the Western Systems Coordinating Council; EL01-10, 000, Puget Sound Energy, Inc. v. All Jurisdictional Sellers of Energy and/or Capacity at Wholesale Into Electric Energy and/or Capacity Markets in the Pacific Northwest, Including Parties to the Western Systems Power Pool Agreement; EL01-10, 001, Puget Sound Energy, Inc. v. All Jurisdictional Sellers of Energy and/or Capacity at Wholesale Into Electric Energy and/or Capacity Markets in the Pacific Northwest, Including Parties to the Western Systems Power Pool Agreement

CAE-50.

Docket# EL00-95, 039, San Diego Gas & Electric Company v. Sellers of Energy and Ancillary Service Into Markets Operated by the California Independent System Operator Corporation and the California Power Exchange

Other#s EL00-98, 037, Investigation of Practices of the California Independent System Operator Corporation and the California Power Exchange; RT01-85, 002, California Independent System Operator Corporation; EL01-68, 002, Investigation of Wholesale Rates of Public Utility Sellers of Energy and Ancillary Services in the Western Systems Coordinating Council

CAE-51.

Docket# EL01-35, 000, Mirant Delta, LLC and Mirant Potrero, LLC v. California Independent System Operator Corporation

Other#s EL00-95, 005, San Diego Gas & Electric Company v. Sellers of Energy and Ancillary Services Into Markets Operated by the California Independent System Operator Corporation and the California Power Exchange; EL00-95, 012, San Diego Gas & Electric Company v. Sellers of Energy and Ancillary Services Into Markets Operated by the California Independent System Operator Corporation and the California Power Exchange; EL00-95, 030, San Diego Gas & Electric Company v. Sellers of Energy and Ancillary Services Into Markets Operated by the California Independent System Operator Corporation and the California Power Exchange

EL00-98, 029, RT01-85, 000, RT01-83, 000, RT01-82, 000, RT01-92, 000, San Diego Gas & Electric Company V. Sellers of Energy and Ancillary Services into Markets Operated by the California Independent System Operator Corporation and the California Power Exchange; California Independent System Operator Corporation; Pacific Gas and Electric Company; San Diego Gas & Electric Company; Southern California Edison Company

CAE-52.

Docket# ER01-1209, 001, Commonwealth Edison Company

Consent Agenda—Markets, Tariffs and Rates—Gas

CAG-1.

Omitted

CAG-2.

Omitted

CAG-3.

Docket# RP01-467, 000, ANR Pipeline Company

CAG-4.

Docket# RP01-458, 000, Tennessee Gas Pipeline Company

CAG-5.

Docket# RP01-478, 000, Transcolorado Gas Transmission Company

CAG-6.

Docket# RP01-232, 001, Northwest Pipeline Corporation

CAG-7.

Docket# RP01-465, 000, Migc, Inc.

CAG-8.

Omitted

CAG-9.

Docket# RP99-159, 002, Southern Natural Gas Company

CAG-10.

Docket# RP97-288, 009, Transwestern Pipeline Company

Other#S RP97-288, 010, Transwestern Pipeline Company

RP97-288, 011, Transwestern Pipeline Company

RP97-288, 012, Transwestern Pipeline Company

RP97-288, 013, Transwestern Pipeline Company

RP97-288, 014, Transwestern Pipeline Company

RP97-288, 015, Transwestern Pipeline Company

RP97-288, 016, Transwestern Pipeline Company

CAG-11.

Docket# RP00-405, 000, Gulf States Transmission Corporation

Other#s RP00-617, 000, Gulf States Transmission Corporation

RP00-617, 001, Gulf States Transmission Corporation

CAG-12.

Docket# RP00-399, 000, National Fuel Gas Supply Corporation

Other#s RP00-399, 002, National Fuel Gas Supply Corporation

RP01-2, 000, National Fuel Gas Supply Corporation

CAG-13.

Docket# RP00-408, 000, Ozark Gas Transmission, L.L.C.

Other#s RP01-10, 000, Ozark Gas Transmisison, L.L.C.

CAG-14.

Docket# RP00-402, 000, Paiute Pipeline Company

Other#s RP00-587, 000, Paiute Pipeline Company

RP00-587, 001, Paiute Pipeline Company

CAG-15.

Docket# RP00-471, 000, Southwest Gas Storage Company

CAG-16.

Omitted

CAG-17.

Omitted

CAG-18.

Docket# RP00-323, 000, ANR Storage Company

CAG-19.

Docket# RP00-324, 000, Blue Lake Gas Storage Company

CAG-20.

Docket# RP01-419, 001, Transcolorado Gas Transmission Company

CAG-21.

Docket# RP01-382, 001, Northern Natural Gas Company

Other#s RP01-382, 000, Northern Natural Gas Company

CAG-22.

Docket# RP01-388, 002, Northern Border Pipeline Company

CAG-23.

Docket# RP92-137, 051, Transcontinental Gas Pipe Line Corporation

Other#s RP93-136, 011, Transcontinental Gas Pipe Line Corporation

CAG-24.

Omitted

CAG-25.

Docket# RM01-9, 000, Reporting of Natural Gas Sales to the California Market

CAG-26.

Docket# RP01-246, 000, Natural Gas Pipeline Company of America

CAG-27.

Docket# RP01-253, 000, Transcontinental Gas Pipe Line Corporation

Other#s RP01-245, 000, Transcontinental Gas Pipe Line Corporation

Consent Agenda—Miscellaneous

CAM-1.

Docket# RM01-10, 000, Standards of Conduct for Transmission Providers

Consent Agenda—Energy Projects—Hydro

CAH-1.

Docket# P-4515, 010, Eric R. Jacobson

Other#s P-4515, 014, Eric R. Jacobson

CAH-2.

Omitted

CAH-3.

Omitted

CAH-4.

Docket# P-2188, 054, PP&L Montana, LLC

Consent Agenda—Energy Projects—Certificates

CAC-1.

Docket# CP00-233, 003, Southern Natural Gas Company

CAC-2.

Docket# CP01-111, 000, Algonquin Gas Transmission Company and Texas Eastern Transmission LP

CAC-3.

Docket# CP01-141, 000, PG&E Gas Transmission, Northwest Corporation

CAC-4.

Docket# CP01-31, 000, Kern River Gas Transmission Company

Other#s CP01-31, 001, Kern River Gas Transmission Company

CAC-5.

Docket# CP01-45, 000, Colorado Interstate Gas Company

CAC-6.

Omitted

CAC-7.

Docket# CP99-615, 001, Petal Gas Storage, L.L.C.

CAC-8.

Docket# CP00-401, 001, Suprex Energy Corporation and Altagas Facilities (U.S.), Inc.

CAC-9.

Docket# CP01-145, 000, Otay Mesa Generating Company, LLC

CAC-10.

Docket# CP00-40, 000, Florida Gas Transmission Company

Other#s CP00-39, 000, Gulf South Pipeline Company, LP (Formerly Koch Gateway Pipeline Company);

CP00-40, 001, Florida Gas Transmission Company;

CP00-40, 002, Florida Gas Transmission Company

CAC-11.

Docket# CP01-34, 000, Transcontinental Gas Pipe Line Corporation

Other#s CP01-32, 000, Williams Gas Processing-Gulf Coast Company, L.P.

CAC-12.

Docket# CP01-103, 000, Transcontinental Gas Pipe Line Corporation

Other#s CP01-104, 000, Williams Gas Processing-Gulf Coast Company, L.P.

CAC-13.

Docket# CP01-157, 000, Georgia-Pacific Corporation

CAC-14.

Docket# CP01-46, 001, National Fuel Gas Supply Corporation

CAC-15.

Docket# CP00-65, 003, Tennessee Gas Pipeline Company

CAC-16.

Docket# CP01-259, 000, Ohio Valley Hub, L.L.C.

CAC-17.

Docket# CP96-711, 001, Discovery Producers Services LLC

Other#s CP96-712, 001, Discovery Gas Transmission LLC

CP96-719, 001, Discovery Gas Transmission LLC

CAC-18.

Docket# CP00-350, 000, Bangor Gas Company, L.L.C.

Energy Projects—Hydro Agenda

H-1.

Reserved

Energy Projects—Certificates Agenda

C-1.

Reserved

Markets, Tariffs and Rates—Electric Agenda

E-1.

Reserved

Markets, Tariffs and Rates—Gas Agenda

G-1.

Reserved

David P. Boergers,
Secretary.

[FR Doc. 01-18375 Filed 7-19-01; 11:10 am]

BILLING CODE 6717-01-P